FEDERAL MARITIME COMMISSION

Ocean Transportation Intermediary License Applicants

Notice is hereby given that the following applicants have filed with the Federal Maritime Commission an application for license as a Non-Vessel Operating Common Carrier and Ocean Freight Forwarder—Ocean Transportation Intermediary pursuant to section 19 of the Shipping Act of 1984 as amended (46 U.S.C. Chapter 409 and 46 CFR part 515).

Persons knowing of any reason why the following applicants should not receive a license are requested to contact the Office of Transportation Intermediaries, Federal Maritime Commission, Washington, DC 20573.

Non-Vessel Operating Common Carrier Ocean Transportation Intermediary Applicant

Junkanoo Shipping, Inc., 3300 NW 112 Ave., Miami, FL 33172. Officers: Maria A. Urbina, Vice President (Qualifying Individual), Suresh Khilnani, President.

Non-Vessel Operating Common Carrier and Ocean Freight Forwarder Transportation Intermediary Applicant

Denmark Customs Broker, Inc., 2250 NW 114 Ave., Suite 100, Miami, FL 33172. Officer: Ramiro Mark Ramirez, Jr., Vice President (Qualifying Individual).

Ocean Freight Forwarder—Ocean Transportation Intermediary Applicants

Around The World Shipping, Inc., 6726 Reseda Blvd., Suite #A-10, Reseda, CA 91335. Officers: Oleg Shkoda, Vice President, (Qualifying Individual), Artak Agamalian, President.

Anmi Logistic Group, Inc., 8534 NW 66 St., Miami, FL 33166. Officers: Laura B. Bezrutschko, President, (Qualifying Individual), Alejandro M. Arias, Secretary.

America-WestAfrica Trade Link, Inc., 101 Muses Court, Cary, NC 27513. Officers: Romanus E. Ndianefo, CEO (Qualifying Individual), Lilian C. Ndianefo, Secretary.

Roger Baum International Exports Inc., 1602 E 4th Ave., Tampa, FL 33605. Officers: Sharon P. Rogers, Owner, Kirsten E. Figueredo, Forwarding Agent (Qualifying Individuals).

Dated: November 30, 2007.
Karen V. Gregory,
Assistant Secretary.

[FR Doc. E7-23584 Filed 12-4-07; 8:45 am]

BILLING CODE 6730-01-P